DEPARTMENT OF ENERGY

Federal Energy Regulatory Commission

[Docket No. EL04-36-000]

Consolidated Edison Company of New York, Inc., Consolidated Edison Solutions, Inc., KeySpan Energy Services, Inc., Constellation New-Energy, Strategic Energy, New York Energy Buyer Forum, and Consumer Power Advocates, Complaints, v. New York Independent System Operator, Inc., Respondent; Notice Convening Conference

January 6, 2004.

Pursuant to Rule 601 of the Commission's Rules of Practice and Procedure, 18 CFR 385.601, the Dispute Resolution Service will convene a conference on Tuesday, January 13, 2004, to discuss how Alternative Dispute Resolution processes and procedures may assist the participants in resolving disputes arising in the above-docketed proceeding. The conference will be held at the Consolidated Edison Company of New York, Inc., building at 4 Irving Place, New York, New York, (212-460-1089) beginning at 11 p.m. and ending at approximately 5:30 p.m.

Jerrilynne Purdy and Richard Miles, acting for the Dispute Resolution Service, will convene the conference. They will be available to communicate in private with any participant prior to the conference. If a participant has any questions regarding the conference, please call Ms. Purdy at 202/502-8671 or e-mail to jerrilynne.purdy@ferc.gov. Parties may also communicate with Richard Miles, the Director of the Commission's Dispute Resolution Service, at 1 877 FERC ADR (337-2237) or 202/502-8702 or e-mail to richard.miles@ferc.gov.

Magalie R. Salas,
Secretary.

[FR Doc. E4-41 Filed 1-9-04; 8:45 am]

BILLING CODE 6717-01-P